DEPARTMENT OF AGRICULTURE

Forest Service

Tongass National Forest; Ketchikan Misty Fjords Ranger District; Alaska; South Revillagigedo Integrated Resource Project Environmental Impact Statement

AGENCY: Forest Service, USDA.

ACTION: Revised Notice of Intent to prepare an Environmental Impact Statement; reopening of public scoping period.

SUMMARY: The Forest Service is issuing this notice to update information included in the original Notice of Intent (NOI) to prepare an Environmental Impact Statement (EIS) for the South Revillagigedo Integrated Resource Project (South Revilla IRP) and to reopen the public scoping period. The original NOI was published in the Federal Register on August 8, 2018 (83 FR 39050). This revised NOI modifies the Proposed Action, including replacing timber volume projections with proposed harvest acres to evaluate harvest potential; adds a young-growth component; revises road requirements for access; and modifies the anticipated publication dates of the Draft and Final EIS.

DATES: Comments concerning the scope of the analysis must be received by July 31, 2019. The Draft EIS is expected to be published in September 2019 and the Final EIS is expected in September 2020.

ADDRESSES: Send or hand-deliver specific written comments to the Ketchikan Misty Fjords Ranger District, Attn: South Revilla IRP, 3031 Tongass Avenue, Ketchikan, Alaska 99901; telephone (907) 225-2148; fax (907) 225-8738. Comments may be emailed to: comments-alaska-tongass-ketchikan-mistyfiord@fs.fed.us with South Revilla IRP in the subject line. In all correspondence, include your name, address, and organization name if you are commenting as a representative of an organization.

FOR FURTHER INFORMATION CONTACT: Damien Zona, Interdisciplinary Team Leader, Ketchikan Misty Fjords Ranger District, 3031 Tongass Avenue, Ketchikan, Alaska 99901 or by phone at (907) 228-4126. Individuals who use telecommunication devices for the deaf may call the Federal Information Relay Service at 1-800-877-8339 between 8 a.m. and 8 p.m., Eastern Time, Monday through Friday.

SUPPLEMENTARY INFORMATION: This EIS will tier to and incorporate by reference the 2016 Tongass Land and Resource Management Plan (Forest Plan) Final EIS. The project area is located on Revillagigedo Island, approximately 17 miles northeast of Ketchikan, Alaska, within the Ketchikan Misty Fjords Ranger District, Tongass National Forest and encompasses about 56,282 acres of National Forest System lands.

Purpose and Need for Action

The purpose of the South Revilla IRP is to implement the 2016 Forest Plan direction to move the project area toward the desired future conditions described in that plan. More specifically, the purpose is to manage the timber resource for production of sawtimber and other wood products, improve ecosystem and watershed health, and provide a range of recreation opportunities to meet public and tourism business demand through an integrated approach to meet multiple resource objectives. Maintaining existing and expanding future opportunities for the recreation and tourism sector would contribute to the local economy.

There is a need to provide a sustainable level of forest products to contribute to the economic sustainability of the region. Providing old-growth timber and currently merchantable young-growth timber would preserve a viable timber industry by providing timber volume in an economically efficient manner while providing jobs and opportunities for Southeast Alaska residents. Past management activities have affected watershed function in the project area. There is a need to improve and restore the natural range of habitat conditions in the project area to support viable wildlife, fish, and plant populations and to sustain diversity and production which would contribute to traditional, cultural, and subsistence uses by residents of Southeast Alaska.

There is also a need to provide sustainable recreation opportunities to a diverse and growing group of forest users. A sustainable recreation program in terms of operations and maintenance is needed to maintain infrastructure at an acceptable level.

Proposed Action

The Forest Service proposes to harvest timber, construct and reconstruct roads, restore watershed function, enhance or restore fish and wildlife habitat, and develop recreation opportunities in the Shelter Cove, Shoal Cove and Thorne Arm areas within the Ketchikan Misty Fjords Ranger District. The project area includes the following land use designations (LUDs): Wilderness, Semi-remote Recreation, Old-growth Habitat, Special Interest Area, Scenic River, Modified Landscape, and Timber Production (Forest Plan, Chapter 3). Maps and information on the 2018 Shelter Cove Recreation Area Master Plan are provided on the project web page at: https://www.fs.usda.gov/project/?project=53477.

Forest and Transportation Management

The Forest Service proposes to harvest timber from up to 5,500 acres of old-growth forested land and about 1,000 acres of young-growth in the Modified Landscape and Timber Production LUDs using one or more timber sales that would be implemented over the course of 15 years. About 5,700 acres of even-aged management and about 800 acres of uneven-aged management are proposed. The Proposed Action would construct about 10 miles of new National Forest System road and recondition about 65 miles of existing roads. Temporary road construction would include about 45 miles of new temporary road, and about 8 miles of temporary road on an existing road prism. Existing rock quarries would be used as available or new quarries would be developed as necessary to provide materials for road construction. Existing log transfer facilities at Shelter Cove and Shoal Cove could be used.

Watershed and Wildlife Habitat Management

Watershed enhancement and restoration activities include instream and floodplain wood placement, riparian thinning, blasting of a partial fish barrier, invasive plant management and culvert replacement/removal. Wildlife treatments will be planned based on project design and identified needs.

Recreation Management

Recreation opportunities will be developed using the 2018 Shelter Cove Recreation Area Master Plan and ongoing public input. The Proposed Action will be refined through internal and external involvement. The 2008 Access and Travel Management Plan and current Motor Vehicle Use Map would be reviewed and updated as needed.

Proposed Forest Plan Amendments

The 2012 Planning Rule (36 CFR 219.13(b)(2)) requires the Responsible Official to identify which substantive requirements of the 2012 Planning Rule are likely to be directly related to a proposed land management plan amendment (36 CFR 219.13(b)(5) and 36 CFR 219.8 through 219.11) in the initial notice for the amendment (36 CFR 219.16(a)(1)). At this time, the Responsible Official believes that changes to plan components are needed for modification of a small old-growth reserve (Forest Plan, Appendix K), and modification of Scenic Integrity Objectives (Forest Plan, p. 4-54 to 4-56). These plan amendments are needed to meet the purpose and need; specifically, by providing timber volume in an economically efficient manner while providing jobs and opportunities for Southeast Alaska residents. These amendments would apply to the commercial timber sales undertaken as part of this specific project only; therefore, the notification requirements and objection procedures of 36 CFR 218, subparts A and B, apply rather than the notification requirements of 36 CFR 219.

Possible Alternatives

Scoping comments will be used to develop a range of alternatives to the Proposed Action in response to significant issues that are identified. A No Action Alternative will be analyzed as the baseline for comparison of action alternatives.

Lead and Cooperating Agencies

The Forest Service is the lead agency for this project. Invited cooperating agencies include: Ketchikan Indian Community, Organized Village of Saxman, Metlakatla Indian Community, State of Alaska Department of Fish and Game, State of Alaska Department of Forestry, and Ketchikan Gateway Borough.

Responsible Official

The Responsible Official for this project is M. Earl Stewart, Forest Supervisor, Tongass National Forest.

Nature of Decision To Be Made

Given the purpose and need of the project, the Forest Supervisor will review alternatives, and consider the environmental consequences to make decisions including: (1) Whether to select the proposed action or another alternative; (2) the locations and design of restoration activities and habitat improvements; (3) road construction and reconstruction; (4) recreation development; (5) mitigation measures and monitoring; (6) whether there may be a significant restriction to subsistence resources; and (7) project-specific Forest Plan amendments.

Preliminary Issues

Preliminary concerns identified by the interdisciplinary team include: (1) Designing an economical timber sale(s) that meets market demand; (2) effects of Forest Plan scenery direction on the ability to design an economical timber sale; (3) effects of timber harvest and road construction on wildlife habitat and travel corridors; (4) effects of timber harvest and road construction on watershed condition; and (5) the effects of herbicide use to other resources.

Permits or Licenses Required

All necessary permits will be obtained prior to project implementation.

Scoping Process

This revised NOI re-opens the scoping process. The Forest Service is soliciting internal and external input on the issues, impacts, and alternatives that will be addressed in the EIS. Comments previously submitted on the original NOI published on August 8, 2018 (83 FR 39050) will be considered and resubmission is not required. Scoping information has been updated and will be distributed to interested parties who have subscribed through an electronic mailing list to receive project information. Individuals and organizations wishing to subscribe may do so at: https://public.govdelivery.com/accounts/USDAFS/subscriber/new?preferences=true.

Additionally, there will be in-person opportunities for involvement including open houses and subsistence hearings held in Ketchikan, Alaska. Project information, meeting announcements, notices, and documents will be provided on the project web page at: https://www.fs.usda.gov/project/?project=53477.

Forest Service regulations at 36 CFR part 218, subparts A and B (78 FR 18481-18504) regarding the project-level predecisional administrative review process applies to projects and activities implementing land management plans that are not authorized under the Healthy Forest Restoration Act. The South Revilla IRP is an activity implementing the Forest Plan and is subject to 36 CFR 218.

Only individuals or entities who submit timely and specific written comments concerning this project during this or other public comment periods established by the Responsible Official will be eligible to file an objection. It is important that reviewers provide their comments at such times and in such manner that they are useful to the agency's preparation of the EIS. Therefore, comments should be provided prior to the close of the comment period and should clearly articulate the reviewer's concerns and contentions.

Comments received in response to this solicitation, including names and addresses of those who comment, will be part of the public record for this proposed action. Comments submitted anonymously will be accepted and considered. Anonymous commenters will not gain standing to object as defined in 36 CFR 218.2.

Dated: March 14, 2019.
Allen Rowley,
Acting Associate Deputy Chief, National Forest System.

Editorial note: This document was received for publication by the Office of the Federal Register on June 25, 2019.

[FR Doc. 2019-13915 Filed 6-28-19; 8:45 am]

BILLING CODE 3411-15-P